UNITED STATES INSTITUTE OF PEACE

Notice of Meeting

AGENCY: United States Institute of Peace.

Date/Time: Thursday—July 23, 2009 (9 a.m.-8 p.m.). Friday—July 24, 2009 (9 a.m.-2:15 p.m.).

Location: NDU—Fort McNair, 300 5th Avenue, Marshall Hall, Washington, DC 20319.

Status: Open Session—Portions may be closed pursuant to Subsection (c) of Section 552(b) of Title 5, United States Code, as provided in subsection 1706(h)(3) of the United States Institute of Peace Act, Public Law 98-525.

Agenda: July 2009 Board Meeting; Approval of Minutes of the One Hundred and Thirty-Third Meeting (April 23, 2009) of the Board of Directors; Chairman's Report; President's Report; Review; Program Updates; Discussion of Programmatic Priorities and the Strategic Plan; Other General Issues.

Contact: Tessie Higgs, Executive Office, Telephone: (202) 429-3836.

Dated: July 13, 2009.
Michael Graham,
Vice President for Management, United States Institute of Peace.

[FR Doc. E9-17175 Filed 7-17-09; 8:45 am]

BILLING CODE 6820-AR-M